DEPARTMENT OF HOUSING AND URBAN DEVELOPMENT

[Docket No. FR-7070-N-80]

30-Day Notice of Proposed Information Collection: Youth Homeless Systems Improvement (YHSI) Program; OMB Control No.: 2506-0219

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: December 7, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 451 7th Street SW, Washington, DC 20410; email Colette.Pollard@hud.gov; telephone number (202) 402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on March 20, 2023 at 88 FR 16648.

Overview of Information Collection

Title of Information Collection: Youth Homeless Systems Improvement (YHSI).

OMB Approval Number: 2506-0219.

Type of Request: Revision.

Form Number: HUD 2880, SF-LLL, SF-424, SF-424B, HUD-424-CBW

Description of the need for the information and proposed use: Congress appropriated funds to the Department of Housing and Urban Development in FY2022 and in FY2023 to competitively award funds to selected communities to develop projects that implement systems infrastructure to better address youth homelessness. The YHSI projects will focus on systems change to create and build capacity for Youth Action Boards; collect and use data from different systems to improve the youth homeless response system; develop strong leaders within a community; and improve the coordination, communication, operation, and administration of homeless assistance projects, including prevention and diversion strategies. This information collection revision is to competitively award YHSI funds to communities and monitor the progress of the funded project. This revision is to include two additional forms in the approved PRA for this program—the HUD-2880, Applicant/Recipient Disclosure/Update Report, and the 424-CBW Grant Application Detailed Budget Worksheet.

Respondents: Not-for-profit institutions; State, Local or Tribal Governments.

Estimated Number of Respondents: 150.

Estimated Number of Responses: 190.

Frequency of Response: Biannual.

Average Hours per Response: 27.

Total Estimated Burdens: 2,670.

Submission documents: Information Collection | Number of respondents | Responses frequency (average) | Total annual responses | Burden hours per response | Total hours | Hourly rate | Burden cost per instrument
Component 1. Project Selection:
YHSI Project Selection Narratives | 100 | 1 | 100 | 22 | 2,200 | $53.67 | $118,074.00
SF-424—Application for Federal Assistance | 100 | 1 | 100 | 0 | 0 | 53.67 | 0.00
SF-424B Assurances for Non-Construction Programs | 100 | 1 | 100 | 0 | 0 | 53.67 | 0.00
HUD-2880, Applicant/Recipient Disclosure/Update Report | 100 | 1 | 100 | 0 | 0 | 53.67 | 0.00
HUD-424-CBW, Grant Application Detailed Budget Worksheet | 100 | 1 | 100 | 0 | 0 | 53.67 | 0.00
OMB-SF-LLL—Disclosure of Lobbying Activities (where applicable) | 100 | 1 | 100 | 0 | 0 | 53.67 | 0.00
Nonprofit Certification | 50 | 1 | 50 | 0 | 0 | 53.67 | 0.00
Organizations Code of Conduct | 100 | 1 | 100 | 0 | 0 | 53.67 | 0.00
Youth Action Board Letter of Support | 100 | 1 | 100 | 1 | 100 | 53.67 | 5,367.00
Letter of Support-partner agency | 100 | 1 | 100 | 1 | 100 | 53.67 | 5,367.00
Subtotal | 100 |  | 100 | 24 | 2,400 |  | 128,808.00
Component 2. Milestone Reporting:
Narrative update on project progress | 40 | 2 | 80 | 2 | 160 | 53.67 | 8,587.20
Updated milestone chart | 10 | 1 | 10 | 1 | 10 | 53.67 | 536.70
Subtotal | 50 |  | 90 | 3 | 270 |  | 9,123.90
Total Application Collection | 150 |  | 190 | 27 | 2,670 |  | 137,931.90

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2023-24576 Filed 11-6-23; 8:45 am]

BILLING CODE 4210-67-P